DEPARTMENT OF HEALTH AND HUMAN SERVICES

National Institutes of Health

Center for Scientific Review; Cancellation of Meeting

Notice is hereby given of the cancellation of the Center for Scientific Review Special Emphasis Panel, March 22, 2013, 3:00 p.m. to March 22, 2013, 4:30 p.m., National Institutes of Health, 6701 Rockledge Drive, Bethesda, MD, 20892 which was published in the Federal Register on March 4, 2013, 78 FR 14099.

The meeting is cancelled due to the reassignment of applications.

Dated: March 15, 2013.
Anna Snouffer,
Deputy Director, Office of Federal Advisory Committee Policy.

[FR Doc. 2013-06471 Filed 3-20-13; 8:45 am]

BILLING CODE 4140-01-P